DEPARTMENT OF JUSTICE

[AAG/A Order No. 027-2007]

Privacy Act of 1974; System of Records

AGENCY: United States Marshals Service, Department of Justice.

ACTION: Notice of modified system of records.

SUMMARY: Pursuant to the provisions of the Privacy Act of 1974 (5 U.S.C. 552a), the United States Marshals Service (USMS), Department of Justice, is issuing public notice of its proposal to modify a system of records entitled, “U.S. Marshals Service (USMS) Employee Assistance Program (EAP) Records, JUSTICE/USM-015.” This notice was last published in the Federal Register in full on November 8, 1999, at 64 FR 60832, 47; and modified in part on January 31, 2001, at 66 FR 8425 and on January 25, 2007, at 72 FR 3410.

DATES: Title 5 U.S.C. 552a(e)(4) and (11) provide that the public be given a 30-day period in which to comment on routine uses. The Office of Management and Budget (OMB), which has oversight responsibility under the Act, requires a 40-day period in which to review the system modifications. The public, OMB and Congress are invited to comment on the modifications to these systems. Please submit any comments by October 9, 2007. The proposed changes will be effective on that date, unless comments are received that result in a contrary determination.

ADDRESSES: Submit written comments to the Department of Justice (DOJ), ATTN: Joo Chung, Counsel, Privacy and Civil Liberties Office, Office of the Deputy Attorney General, Room 4259 Main RFK Building, Washington, DC 20530, or facsimile number 202-616-9627.

FOR FURTHER INFORMATION CONTACT: Ed Bordley, Attorney-Advisor, USMS, at 202-307-8571.

SUPPLEMENTARY INFORMATION: The system notice has been revised to reflect routine uses modified or added for consistency with other Department of Justice notices, and the removal of one routine use which was determined to be not applicable to this particular system of records. The system location address has been changed and reworded. The categories of records and purposes designation were modified to eliminate redundancy and superfluous information. The record access procedure designation was modified to reflect the changes in the categories of records.

In accordance with 5 U.S.C. 552a(r), the Department has provided a report on the modified system to OMB and the Congress. A description of the system is found below.

Dated: August 16, 2007.
Lee J. Lofthus,
Assistant Attorney General for Administration.

JUSTICE/USM-015

SYSTEM NAME:

U.S. Marshals Service (USMS) Employee Assistance Program (EAP) Records.

SECURITY CLASSIFICATION:

Limited official use.

SYSTEM LOCATION:

Primary system: Human Resources Division, U.S. Marshals Service, CS-3, Washington, DC 20530-1000. Contractor records are maintained at the respective offices of these providers; these addresses may be obtained by contacting the USMS Employee Assistance Program (EAP) Office.

CATEGORIES OF INDIVIDUALS COVERED BY THE SYSTEM:

Current and former employees of the USMS (and in limited cases, immediate family members) who have sought counseling or have been referred for counseling or treatment through the USMS EAP. The remainder of this notice will refer to all persons covered by this system as “EAP client(s)”.

CATEGORIES OF RECORDS IN THE SYSTEM:

Records include any record, written or electronic, which may assist in diagnosing, evaluating, counseling and/or treating an EAP client; or resolving an EAP client's complaint and/or management's concern (management consultation) regarding the EAP client's performance, attendance, or conduct issues. The records may contain the consent forms; intake/termination and outcome documents; case notes; pertinent psychosocial, medical and employment histories; medical tests or screenings, including drug and alcohol tests and information on positive drug tests generated by the Drug Free Workplace Program or treatment facilities; treatment and rehabilitation plans and recommendations; abeyance/back-to-work agreements; insurance data; behavioral improvement plans; and referral records. Where clinical referrals have been made, records may include information related to counseling, diagnosis, prognosis, treatment and evaluation, together with follow-up data that may be generated by the program providing the services. Records may also include those that can assist in the monitoring, managing, and evaluating the contractor's performance such as sanitized audit records of the EAP/Contractor Program.

AUTHORITY FOR MAINTENANCE OF THE SYSTEM:

42 U.S.C. 290dd, et seq. and 290ee, et seq.; 42 CFR 2.1, et seq.; E.O. 12564, 5 U.S.C. 3301 and 7901; 44 U.S.C. 3101 and Public Law 100-71, sec. 503 (July 11, 1987).

PURPOSE(S):

The EAP is a voluntary program designed to assist clients in obtaining help in handling personal problem(s) affecting job performance, and to provide emotional support and assistance during periods of crises. Records are maintained to document and monitor client's participation in the EAP program; to monitor compliance with abeyance and back-to-work agreements; to document the nature and effects of the employee's personal problem(s); and to manage and monitor contractor performance. Routine uses of records maintained in the system, including categories of users and the purpose of such uses:

Records or Information May be Disclosed:

(a) To appropriate state or local authorities to report, where required under state law, incidents of suspected child, elder or domestic abuse or neglect;

(b) To any person or entity to the extent necessary to prevent an imminent crime which directly threatens loss of life or serious bodily injury;

(c) To USMS contractors that provide counseling and other services through referrals from the EAP staff to the extent that it is appropriate, relevant, and necessary to enable the contractor to perform counseling, treatment, rehabilitation, and evaluation duties;

(d) To any person responsible for the care of an EAP client when the EAP client to whom the records pertain is mentally incompetent or under legal disability;

(e) To any person or entity to the extent necessary to meet a bona fide medical emergency;

(f) To appropriate agencies, entities, and persons when (1) The Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

Disclosure to Consumer Reporting Agencies:

Records in this system are not appropriate for disclosure to consumer reporting agencies.

POLICIES AND PRACTICES FOR STORING, RETRIEVING, ACCESSING, RETAINING AND DISPOSING OF RECORDS IN THE SYSTEM:

STORAGE:

Information is stored in locked metal safes and in computerized databases.

RETRIEVABILITY:

Records are retrieved by name of employee and, in limited cases immediate family members.

SAFEGUARDS:

In accordance with the requirements of 42 CFR 2.16, USMS EAP, contractor records are stored in a secure environment. Access to USMS EAP records is restricted to designated USMS EAP personnel, except as otherwise permitted by law or with the written consent of the individual. Vouchers prepared to effect payment for services rendered by the contractors in performance of the contract do not contain individual identifiers. Invoices prepared by contractors located outside the Washington, DC metropolitan area are sent by first-class mail to the designated member(s) of the local contractors contracted with the USMS. In turn, invoices or other records prepared in support of payment vouchers which contain individual identifiers are hand-carried by the local contractors to the EAP Administrator who retains the supporting documentation. Records are maintained in locked metal safes. Entry to headquarters is restricted by 24-hour guard service to employees with official and electronic identification.

Access to contractors records is restricted to a designated member(s) of the contractors, except as otherwise provided by law or with the written consent of the individual. Contractors records are stored in locked files also.

RETENTION AND DISPOSAL:

Records, paper or electronic, are retained for three years after the individual ceases contact with the USMS EAP and/or the contractor unless a longer retention period is necessary because of pending administrative or judicial proceedings. In such cases, the records are retained for six months after the case is closed. At that time the records are destroyed by shredding (General Records Schedules 26 and 36).

SYSTEM MANAGER(S) AND ADDRESS:

Employee Assistance Program Administrator, Health and Safety Team, Human Resources Division, United States Marshals Service, CS-3, Washington, DC 20530-1000.

NOTIFICATION PROCEDURE:

Same as “Record access procedures.”

RECORD ACCESS PROCEDURES:

Address all requests for access to the USMS EAP records in writing to system manger identified above. Address all requests for records maintained by the contractor to these service providers. Address(es) of these service providers may be obtained by contacting the USMS EAP Office. Clearly mark the envelope and letter “Privacy Act Request.” Clearly indicate the name of the requester, nature of the record sought, and approximate date of the record. In addition, provide the required verification of identity (28 CFR 16.41(d)) and a return address for transmitting the information.

CONTESTING RECORD PROCEDURES:

Direct all requests to contest or amend information in accordance with the procedures outlined under “Record access procedures.” State clearly and concisely the information being contested, the reasons for contesting it, and the proposed amendment to the information sought. Clearly mark the letter and envelope “Privacy Act Amendment Request.”

RECORD SOURCE CATEGORIES:

Records are generated by the EAP client who is the subject of the record; USMS EAP personnel; the contractors, and the specialized service providers; the USMS Human Resources Division; and the employee's supervisor. In the case of a confirmed, unjustified positive drug test, records may also be generated by the staff of the Drug-Free Workplace Program and the Medical Review Officer.

EXEMPTIONS CLAIMED FOR THE SYSTEM:

None.

[FR Doc. E7-16894 Filed 8-24-07; 8:45 am]

BILLING CODE 4410-04-P